DEPARTMENT OF VETERANS AFFAIRS

[OMB Control No. 2900-New (21-0845)]

Agency Information Collection: Emergency Submission for OMB (FVEC) Review; Comment Request

AGENCY: Veterans Benefits Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). The reason for the emergency clearance is to allow VA to share claims information with the family members or designee of severely injured service members who are unable to communicate with VA due to their injuries. OMB has been requested to act on this emergency clearance request by June 5, 2009.

DATES: Comments must be submitted on or before May 20, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-New (21-0845)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (21-0845).”

SUPPLEMENTARY INFORMATION: Title: Statement in Support of Claim (Filipino Veterans Equity Compensation Fund), VA Form 21-4138(CF).

OMB Control Number: 2900-New (21-0845).

Type of Review: New collection.

Abstract: VA Form 21-0845 is completed by severely injured service members or beneficiary who are unable to communicate with VA due to their injuries, to authorize release of certain claims information to an agent or person(s) whom they designate. The form will aid family member(s) in making well-informed decisions regarding a seriously ill or injured claimant or beneficiary and also allow the designee to receive updated information on certain decisions made regarding claims and payments.

Affected Public: Individuals or households.

Estimated Annual Burden: 1,667 hours.

Estimated Average Burden per Respondent: 5 minutes.

Frequency of Response: On occasion.

Estimated Number of Respondents: 20,000.

Dated: May 7, 2009.
By direction of the Secretary.
Denise McLamb,
Program Analyst, Enterprise Records Service.

[FR Doc. E9-11104 Filed 5-12-09; 8:45 am]

BILLING CODE 9320-01-P